DEPARTMENT OF THE TREASURY

[General Counsel Designation No. 268]

Appointment of Members to the General Counsel Panel of the Legal Division Performance Review Board

Under the authority granted to me as General Counsel of the Department of the Treasury by 31 U.S.C. 301 and Treasury Department Order Nos. 101-5 and 107-04, and pursuant to the Civil Service Reform Act, I appoint the following individuals to the General Counsel Panel of the Legal Division Performance Review Board:

George B. Wolfe, Deputy General Counsel, who shall serve as Chair;

Thomas M. McGivern, Counselor to the General Counsel;

Kenneth R. Schmalzbach, Assistant General Counsel (General Law and Ethics);

Roberta K. McInerney, Assistant General Counsel (Banking & Finance);

Stephen J. McHale, Assistant General Counsel (Enforcement);

Russell L. Munk, Assistant General Counsel (International Affairs);

Rochelle F. Granat, Deputy Assistant General Counsel (General Law and Ethics);

Eleni M. Constantine, Deputy Assistant General Counsel (Banking and Finance);

Francine J. Kerner, Deputy Assistant General Counsel (Enforcement);

Marilyn L. Muench, Deputy Assistant General Counsel (International Affairs);

John J. Manfreda, Chief Counsel, Bureau of Alcohol, Tobacco & Firearms;

Alfonso Robles, Chief Counsel, United States Customs Service;

John J. Kelleher, Chief Counsel, United States Secret Service;

Walter Eccard, Chief Counsel, Bureau of Public Debt;

Debra N. Diener, Chief Counsel, Financial Management Service;

Carrol H. Kinsey, Jr., Chief Counsel, Bureau of Engraving and Printing; and

Daniel P. Shaver, Chief Counsel, U.S. Mint.

Dated: July 19, 2001.
David D. Aufhauser,
General Counsel.

[FR Doc. 01-18908 Filed 7-27-01; 8:45 am]

BILLING CODE 4810-25-M